DEPARTMENT OF HEALTH AND HUMAN SERVICES

Health Resources and Services Administration

Advisory Committee on Training in Primary Care Medicine and Dentistry; Notice of Meeting

In accordance with section 10(a)(2) of the Federal Advisory Committee Act (Public Law 92-463), announcement is made of the following National Advisory body scheduled to meet during the month of May 2002.

Name: Advisory Committee on Training in Primary Care Medicine and Dentistry (ACTPCMD).

Date and Time: May 13, 2002; 8:30 a.m.—5 p.m., May 14, 2002; 8:30 a.m.—5 p.m.,

Place: The Radisson Barcelo Hotel, 2121 P Street, NW., Washington, DC 20037.

The meeting is open to the public.

Purpose: The Advisory Committee will address policy recommendations and needs for program development to improve the public health by enhancing the interface between primary care practitioners and the public health infrastructure in the United States. The contents of this meeting will provide the basis for the second report of the Advisory Committee, which will be submitted to Congress and the Secretary of the Department of Health and Human Services in November 2002.

Agenda: The meeting on Monday, May 13 will begin with welcoming and opening comments from the Chair and Executive Secretary. A plenary session will follow, in which two speakers will characterize critical issues relating to needs for improving the incorporation of public health into primary care education and training to create practitioners who will function in close collaboration with the public health infrastructure. Three speakers will then provide introductions to workgroup sessions which will follow. The Advisory Committee will then divide into three workgroups which will focus on developing recommendations for changes in education and training that will strengthen the primary care-public health interface, specifically in relation to access to care, interdisciplinary teamwork, and acute and chronic public health issues.

On May 14, workgroups will reconvene in the morning to finalize recommendations. A plenary session will follow, with reports by workgroup chairs, general discussion, and decisions by the Advisory Committee on their official recommendations. The Advisory Committee will also discuss plans for future work, and will close following an opportunity for public comments.

Anyone interested in obtaining a roster of members or other relevant information should write or contact Stan Bastacky, D.M.D., M.H.S.A., Deputy Executive Secretary, Advisory Committee on Training in Primary Care Medicine and Dentistry, Parklawn Building, Room 9A-21, 5600 Fishers Lane, Rockville, Maryland 20857, Telephone (301) 443-6326. The web address for information on the Advisory Committee is http://www.bhpr.hrsa.gov/dm/actpcmd.htm.

Dated: April 4, 2002.
Jane M. Harrison,
Director, Division of Policy Review and Coordination.

[FR Doc. 02-8613 Filed 4-9-02; 8:45 am]

BILLING CODE 4165-15-P